DEPARTMENT OF DEFENSE

Department of the Navy

Notice of Intent To Grant Exclusive Patent License; Nomadics, Inc.

AGENCY: Department of the Navy, DoD.

ACTION: Notice.

SUMMARY: The Department of the Navy hereby gives notice of its intent to grant to Nomadics, Inc., a revocable, nonassignable, exclusive license to practice in the field of use of chemiluminescent detection of trace chemical analytes that are potential chemical threats to health, welfare, national defense and homeland security, such as chemical warfare agents, explosives, and toxic industrial chemicals (TIC's) that may be released deliberately or accidentally, using a highly sensitive instrument either as a stand alone device or integrated into a device that includes other ICx technologies in the military, homeland security, first responder, law enforcement, and industrial markets in the United States and certain foreign countries, the Government-owned invention described in U.S. Patent No. 6,579,722 entitled “Chemiluminescence Chemical Detection of Vapors and Device Therefor”, Navy Case No. 76,653 and any continuations, divisionals or re-issues thereof.

DATES: Anyone wishing to object to the grant of this license must file written objections along with supporting evidence, if any, not later than July 17, 2008.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone: 202-767-3083. Due to U.S. Postal delays, please fax 202-404-7920, e-mail: rita.manak@nrl.navy.mil or use courier delivery to expedite response.

Authority: 35 U.S.C. 207, 37 CFR Part 404.

Dated: June 25, 2008.
T.M. Cruz,
Lieutenant, Office of the Judge Advocate General, U.S. Navy, Federal Register Liaison Officer.

[FR Doc. E8-14967 Filed 7-1-08; 8:45 am]

BILLING CODE 3810-FF-P